DEPARTMENT OF JUSTICE

Notice of Lodging of Consent Decree Under the Comprehensive Environmental Response, Liability, and Compensation Act

Notice is hereby given that on February 9, 2012, a proposed Consent Decree in United States and Nebraska v. NL Industries, Inc., Civil Action No. 8:12-cv-00059 was lodged with the United States District Court for the District of Nebraska.

In that lawsuit, the United States and State of Nebraska seek to recover response costs pursuant to the Comprehensive Environmental Response, Compensation and Liability Act (“CERCLA”) in connection with the U.S. Environmental Protection Agency's continuing cleanup of the Omaha Lead Superfund Site. The proposed consent decree will require NL Industries, Inc. to pay $624,000 to the Hazardous Substance Superfund in partial reimbursement of the United States' response costs and pay $26,000 to the Nebraska Department of Environmental Quality.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States and Nebraska v. NL Industries, Inc., D.J. Ref. 90-11-3-07834/5.

During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $4.75 (25 cents per page reproduction cost) payable to the U.S. Treasury or, if requesting by email or fax, forward a check in that amount to the Consent Decree Library at the address given above.

Maureen Katz,
Assistant Section Chief, Environmental Enforcement Section, Environment and Natural Resources Division.

[FR Doc. 2012-3479 Filed 2-14-12; 8:45 am]

BILLING CODE 4410-15-P